DEPARTMENT OF THE TREASURY

Internal Revenue Service

Quarterly Publication of Individuals Who Have Chosen To Expatriate, as Required by Section 6039G

AGENCY: Internal Revenue Service (IRS), Treasury.

ACTION: Notice.

SUMMARY: This notice is provided in accordance with IRC section 6039G, as amended by the Health Insurance Portability and Accountability Act (HIPAA) of 1996. This listing contains the name of each individual losing their United States citizenship (within the meaning of section 877(a) or 877A) with respect to whom the Secretary received information during the quarter ending September 30, 2009.

Last name | First name | Middle name/initials
Alkalbani | Saeed | Saleh
Anderson | Stefanie | Andrea
Arnold | Richard | Lee
Batchelor | Nicholas | David
Bellm | Diane |
Bellm | Mark | James
Berson | Alan | Charles
Bonelli | Ann | Pauline
Bosch | Maya | Giselle
Boutros | Joanne | Lee
Brennan | Michael | John
Bresnahan | Sean | Patrick
Bucher | Nicole | Shelley
Burns Hamlyn | Sara |
Chan | Andrew | Kwan To
Chan | Tung | Moe
Chang | Herman | Hsiu Guo
Chau | Puiman |
Chazot | Christophe | Edge
Chen | Chih-Ming | James
Chen | Margaret | Sai Man
Cheng | Dorian | Pui Yin
Cheng | Kit | Heng Wong
Cheung | Allan | Chiwan
Cho | Kyu | Hwan
Choi | Joel | Will
Chung | Jane |
Chu-Yip | Pancy | Siu Ling
Corbin | Susan | Loviska
Cornell | Wade | Hampton
Cornwall | John |
De Cocinis | Mark | John
De Latour | Michael | Christopher
Effeney | Susan | Margaret Pond
Egli | Vanessa | Darcie
Ehrhart | Timothy | Lee
Feitknecht | Andreas | Jurg
Firmenich | Frederic | Alexandre
Fleming | Robert | Helmut
Flores | Eduardo |
Fong | Cecilia | Foo
Foo | Allison | Wei-Qian
Forrer | Thomas | James
Fournier | Frances | Margaret
Ghani | Ashraf |
Granger | Janis | Ellen
Guardia | Gilberto | Jose
Gutowski | Charles | Gregory
Hager | Edward |
Han | Jin | Hee
Heitmueller | Jan | Christoph
Ho | Benedict | Sze Man
Ho | Warren | Weilien
Hon | Kenneth | Sau Yee
Hood | Russell | William
Hung | Hak(Nak) | Fu
Hung | Marvin | Ming-Kei
Hussey | Martin | John
Im | Kaiser |
Islam | Anisul |
Jen | Stephen | Li
Jeong | Daniel | Eui
Jessee | Derek | Talbert
Joseph | Emma | Catherine
Kim | Dong | Jin
Kim | Min | Soo
Kim | Sol | Ha
Kinne | Judd | Clark
Kirsch | Gorm | David
Lai | Aida |
Langhammer | Mark | Richard
Larsen | James | Gregory
Laursen | Kristin | Leigh
Law | Wilson | Wai Shan
Lee | Andy | Hung Kee
Lee | Jae | Choon
Lee | Ki | In
Lee | Kihwang |
Lee | Maureen | Lam
Lee | Norman | Tak Lee
Lii | Mark | Ming Shing
Lim | William | Ooi Lee
Lo | Lois | Yick Sze
Long | Stephen | Thomas
Machinena | Fernando |
MacMeekin | Scott | Wright
Mahbubani | Kishore | Richard
Maira | Arun | Nath
Marrs Sr | David | Michael
Martin | Christina | Carol
Marx | Birgit |
McCamish | Julie | Ann
Meersman | Jane | Gay
Morgan | Kate | Louise
Morgan | Miranda | Elvira
Moss | Max |
Nakagawa | Makoto |
Nauer | Philip | Jacques
Ng | Chun | Wah
Ng | Edwin | Sai Wah
Ng | Lily |
Ng | Sarah | Ming-Yuen
Nylund | Richard | Alan
O'Donnell | Brian |
Ofer | Olivia | Kate
Oren | Michael |
Park | Sung | Soo
Peng | John |
Persson | Bente | Dagny
Piasente-Foligno | Massimo |
Pohan | Annisa | Larasati
Poon | Veronica |
Portlock | Charles | Christopher
Potocki | Tomasz | Jan
Pu | Mark | Siao Hing
Pyen | Kum | Woo
Rebaczonok-Padulo | Michael |
Renner | Scott | M
Roberts | Steve |
Roux | Romulo | A
Rutledge | Gregory | Karl
Saba | Hafid | Mekki
Salas | Henrique | Fernando
Salathe | Heidy |
Sandrin | Eric | Lee
Schindel | Peter | Hyde
Schneider | Kai-Niklas | A
Seo | Albert | Minwoo
Shen | Anita | Lai Luen Law
Shir | Bemellah |
Sincebaugh | Yeon | Hee
Slater | Michael | D
Sroka | Robert | John
Stamp | Josiah | Richard
Stanton | Raymond | Clifford
Stemple | Stewart | David
Suh | Nam | Jin Maria
Takahashi | Makoto |
Tam | Siobhan | Shiu Wun
Tenerelli | Dean | Philip
Thatcher | Marianne | Laura
Thompson, III | James | E
Tien | Osmund | Chung Yu
Udy | Anne | Benua
Venit | Alexander | Maria
Villalobos | Chun | Hui
Wang | Austin | Jesse
Weiss | Charlotte | Rubel
Wild | Roland | Oliver
Wong | Bill | Yim-Chi
Wong | Jeffrey | Mark
Woodburn | John | Andrew
Wu | Ingrid | G
Wu | Madeline |
Wu | Veronica | Shao-Ching
Yang | William | Chunsu
Zhang | Wanjuen |
Zukier | Hersz |

Dated: October 29, 2009.
Angie Kaminski,
Manager Team 103, Examinations Operations—Philadelphia Compliance Services.

[FR Doc. E9-27751 Filed 11-18-09; 8:45 am]

BILLING CODE 4830-01-P